NUCLEAR REGULATORY COMMISSION

[NRC-2011-0054; Docket No. 40-0299]

Environmental Assessment and Finding of No Significant Impact for License Amendment No. 64 for Umetco Minerals Corporation Gas Hill Reclamation Project, License No. SUA-648

AGENCY: Nuclear Regulatory Commission.

ACTION: Notice of Availability.

FOR FURTHER INFORMATION CONTACT: Dominick A. Orlando, Senior Project Manager, Special Projects Branch, Decommissioning and Uranium Recovery Licensing Directorate, Division of Waste Management and Environmental Protection, Office of Federal and State Materials and Environmental Management Programs, U.S. Nuclear Regulatory Commission, Washington, DC 20555. Telephone: 301-415-6749; e-mail: Dominick.Orlando@nrc.gov.

SUPPLEMENTARY INFORMATION:

Introduction

The U.S. Nuclear Regulatory Commission (NRC) is considering the issuance of a license amendment to Source Materials License SUA-648 issued to Umetco Minerals Corporation (Umetco or the licensee) to authorize repairs to the erosion protection system at its Gas Hills Reclamation Project in Fremont and Natrona Counties, Wyoming. The NRC has prepared an Environmental Assessment (EA) for this proposed action in accordance with the requirements of Title 10 of the Code of Federal Regulations (10 CFR) part 51. Based on the EA, the NRC has concluded that a Finding of No Significant Impact (FONSI) is appropriate with respect to the proposed action. The amendment will be issued following the publication of this Notice.

The current Umetco site consists of three primary tailings disposal areas on the 1,920 acre parcel—the 170 acre Above-Grade Tailings Impoundment (AGTI), the 55 acre A-9 Repository (A-9), and the 60 acre Heap Leach Area. In addition, the Gas Hills Pond No. 2 area, adjacent to the Heap Leach Area, also contains waste from heap leach operations.

Umetco submitted a reclamation plan for the AGTI area of the site in 1980. During the mid-1990s, the existing reclamation plan was reevaluated to address potential erosion of the cover design and additional contamination identified adjacent to the existing cover in the area. In addition, given the NRC's position on the acceptance of previously approved reclamation plans and license termination requirements, Umetco re-examined the AGTI reclamation design and the completed work, and concluded that license termination would not be possible with the existing erosion protection design. Umetco submitted an enhanced reclamation plan for the AGTI area in October 1997. The NRC approved this enhanced plan in 1999. In 2000, Umetco requested approval for modification of the erosion protection design to prevent potential disturbance of cultural resources discovered during reclamation activities. The modification was approved by the NRC in April 2001. Umetco completed the work in this area in 2002. The A-9 is a former open pit uranium mine that was used for tailings disposal. The original reclamation plan was previously approved by the NRC, but the cover was never constructed. Umetco submitted a revised reclamation plan in 1998 to implement modifications to the A-9. The NRC approved the revised reclamation plan in 1999 [NRC 1999]. Umetco completed work in this area in 2006.

In June 2007, Umetco submitted the Construction Completion Report documenting the completed construction activities at the site inclusive of the AGTI and A-9 reclamation covers. The Construction Completion Report was subsequently approved by License Amendment 60 in September 2008.

Monitoring and inspection activities performed by Umetco on the AGTI and A-9 reclamation covers identified isolated areas of erosion, namely sub-grade erosion of the erosion protection layer resulting in isolated, shallow incisions of the underlying cover soils. While this issue has resulted in shallow incisions of the underlying cover soils in isolated locations, the incisions do not extend deeper than 12-18 inches. In addition, the frost protection layer is 54 inches thick on the cover and the radon barrier is located beneath the frost protection layer. Thus, it does not appear that there has been a release of tailings or degradation of the radon attenuation capacities of the completed reclamation covers.

On December 21, 2010, Umetco submitted an evaluation that identified what Umetco believed was the reason for the incisions and requested approval of an enhanced design to repair the cover. The current licensing action is to approve Umetco's request.

Environmental Assessment Summary

The purpose of the proposed amendment is to authorize the repair of the erosion protection system at Umetco's Gas Hills Reclamation Project site, in Fremont and Natrona Counties, Wyoming. By letters dated December 21, 2010, May 10, 2011, June 8, 2011, July 13, 2011, and July 18, 2011, Umetco submitted a request for approval of, and provided additional information supporting, their proposed repair approach for the cover.

Umetco proposes to correct the sub-grade erosion by placing a bedding layer under the AGTI and A-9 covers by one of two methods. The first would involve removing the cover, laying down a bedding layer and replacing the cover. The second method would involve laying the bedding layer on the cover and using a mechanical vibrator to move the bedding layer under the cover. Umetco also proposed installing bedding layer on the northeast portion of the AGTI to reduce erosion and repair erosion sink holes and repairing the erosion control apron on the southeast corner of the AGTI by placing riprap around the apron channel.

The NRC staff has prepared the EA in support of the proposed licensing action. The EA evaluates the repair of the AGTI, A-9 and other locations and is limited to these repair impacts as all other impacts were previously evaluated in the approvals of the final cover as described above.

Umetco will perform the proposed activities either on the existing tailings pile or on areas that were disturbed during earlier closure activities and were previously evaluated by NRC. The footprint of the site will not be expanded as a result of the proposed actions. The NRC staff, therefore, does not expect the proposed action to significantly impact land use, geology, soils, water resources, ecological resources, meteorology, climatology, air quality, endangered and threatened species, historic and cultural resources. The staff also does not expect significant environmental impacts to ecological resources, transportation, noise, visual resources, socioeconomic conditions or public and occupational health.

Only one alternative to the proposed action was considered by the staff, the “no action” alternative, because no other alternatives were considered reasonable or technically feasible.

Finding of No Significant Impact

Based on the analysis contained in the EA, the NRC staff concluded that there are no significant environmental impacts from the proposed action and that the preparation of an Environmental Impact Statement is not warranted. Accordingly, the NRC determined that a Finding of No Significant Impact is appropriate.

Further Information

Documents related to this action, including the application for license amendment, are available electronically at the NRC Library at http://www.nrc.gov.reading-rm/adams.html. From this site, you can access the NRC's Agencywide Document Access and Management System (ADAMS), which provides text and image files of NRC's public documents. The ADAMS accession numbers for the documents related to this Notice are:

Document | ADAMS Accession No.
Umetco Above Grade Tailings Impoundment and A-9 Repository Erosion Protection Enhancement Design Report and Request for Approval, December 21, 2010 | ML103640265
Umetco Gas Hills Erosion Enhancement Design Report Photos, February 22, 2011 | ML111110263
NRC Meeting Summary for March 30, 2011, meeting with Umetco, April 20, 2011 | ML111101409
Umetco Response to NRC Staff Request for Additional Information, May 10, 2011 | ML11132A154
Umetco Clarifications to NRC Questions and Comments, June 8, 2011 | ML11160A096
Letter from Umetco Regarding Cost Estimate for Repair Methods, July 13, 2011 | ML11196A143
Letter from Umetco Regarding Cost Estimate for Repair Methods, July 18, 2011 | ML11201A304
NRC Environmental Assessment | ML112060216

If you do not have access to ADAMS or if there are problems in accessing the documents located in ADAMS, contact the NRC Public Document Room (PDR) Reference staff at 1-800-397-4209, 301-415-4737 or by e-mail to pdr.resource@nrc.gov.

These documents may also be viewed electronically on the public computers located at the NRC's PDR, O 1 F21, One White Flint North, 11555 Rockville Pike, Rockville, Maryland 20852. The PDR reproduction contractor will copy documents for a fee.

Dated at Rockville, Maryland, this 11th day of August 2011.
For the Nuclear Regulatory Commission.
Paul Michalak,
Acting Deputy Director, Decommissioning and Uranium Recovery Licensing Directorate, Division of Waste Management and Environmental Protection, Office of Federal and State Materials and Environmental Management Programs.

[FR Doc. 2011-21215 Filed 8-18-11; 8:45 am]

BILLING CODE 7590-01-P